DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove one system of records notice from its inventory of record systems because the United States Secret Service no longer requires the system. The obsolete system is Treasury/IRS 46.016 Secret Service Details, Criminal Investigation Division (66 FR 63783 December 10, 2001).

DATES: Effective Date: January 20, 2009.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing one United States Secret Service (USSS) system of records notice from its inventory of record systems.

DHS inherited this record system upon its creation in January of 2003. Upon review of its inventory of records systems, DHS has determined it no longer needs or uses this system of records and is retiring Treasury/IRS 46.016 Secret Service Details, Criminal Investigation Division (66 FR 63783 December 10, 2001).

Treasury/IRS 46.016 Secret Service Details, Criminal Investigation Division was originally established to collect and maintain the USSS's Criminal Investigation Division records, which are now covered but a different system of records.

Eliminating this system of records notice will have no adverse impacts on individuals, but will promote the overall streamlining and management of DHS Privacy Act record systems.

Dated: December 10, 2008.
Hugo Teufel III,
Chief Privacy Officer, Department of Homeland Security.

[FR Doc. E8-29790 Filed 12-18-08; 8:45 am]

BILLING CODE 4410-10-P